DEPARTMENT OF THE INTERIOR

National Park Service

Gauley River National Recreation Area, West Virginia

AGENCY: National Park Service, Interior.

ACTION: Notice of availability of a Plan of Operations for a 30-day public review at Gauley River National Recreation Area, Fayette County, West Virginia.

SUMMARY: The National Park Service (NPS), in accordance with section 9.52(b) of Title 36 of the Code of Federal Regulations has received from Equitable Production Inc., a Plan of Operations for plugging Flynn Lumber #A1 (API #47-067-00052), from a surface location 4 miles southeast of the village of Swiss, Nicholas County, WV, near a small drainage known as Beech Run, within the Gauley River National Recreation Area.

DATES: The above document is available for public review and comment for a period of 30 days from the publication date of this notice in the Federal Register.

ADDRESSES: The Plan of Operations is available for public review and comment in the Office of the Superintendent, Gauley River National Recreation Area, 104 Main Street, Glen Jean, West Virginia. Copies of the Plan of Operations are available, for a duplication fee, from the Superintendent, Gauley River National Recreation Area, P.O. Box 246, Glen Jean, West Virginia 25846.

FOR FURTHER INFORMATION CONTACT: John Perez, Biologist, Gauley River National Recreation Area, P.O. Box 246, Glen Jean, West Virginia 25846, Telephone: 304-465-6537, e-mail at john_perez@nps.gov.

SUPPLEMENTARY INFORMATION: If you wish to submit comments about this document within the 30 days, mail them to the post office address provided above, hand-deliver them to the park at the street address provided above, or electronically file them to the e-mail address provided above. Our practice is to make comments, including names and home addresses of responders, available for public review during regular business hours.

Calvin F. Hite,
Superintendent, Gauley River National Recreation Area.

[FR Doc. 03-23348 Filed 9-12-03; 8:45 am]

BILLING CODE 4312-JW-U